GENERAL SERVICES ADMINISTRATION

Office of Small Business Utilization; Small Business Advisory Committee;

Notice of Request for Nominations for Subcommittee on Service Disabled Veteran Owned Small Business (SDVOSB), GSA Small Business Advisory Committee

AGENCY: Office of Small Business Utilization, GSA.

ACTION: Notice.

SUMMARY: The General Services Administration (GSA) is requesting the public to submit nominations of individuals for the Service Disabled Veteran Owned Small Business Subcommittee of the GSA Small Business Advisory Committee as a part of GSA's initiative to meet and exceed its three percent contracting goal for Service-Disabled Veteran-Owned Small Businesses.

DATES: Interested parties should submit the nomination form on or before September 30, 2008.

ADDRESSES: The nomination form is available at http://www.gsa.gov/service-disabled and should be submitted to sbac@gsa.gov. When submitting a nomination via email, please put “SDVOSB Subcommittee nomination” in the subject line. Nominations may also be sent by mail to: General Services Administration, Small Business Advisory Committee, 1800 F Street NW, Room 6029, Washington, DC 20405.

Those wishing to send the nominations by fax may do so using (202) 501-2590.

FOR FURTHER INFORMATION CONTACT Aaron Collmann, Room 6029, GSA Building, 1800 F Street, NW., Washington, DC 20405 (202) 501-1021 or email at sbac@gsa.gov.

SUPPLEMENTARY INFORMATION: This notice is published in accordance with the provisions of the Federal Advisory Committee Act (FACA) (Pub. L. 92-463). The purpose of this subcommittee is to advise GSA in issues pertaining to Service Disabled Veteran Owned Small Businesses (SDVOSB's) as outlined in Gun number 2 (Advocacy) of GSA's 21 Gun Salute initiative for SDVOSB's. Information on the 21 Gun Salute can be found at http://www.gsa.gov/service-disabled. Please note that nominees who are selected and agree to serve may be asked to complete a financial disclosure form.

Dated: September 9, 2008.
Michael Rigas,
Deputy Associate Administrator, Office of Small Business Utilization, General Services Administration.

[FR Doc. E8-21455 Filed 9-12-08; 8:45 am]

BILLING CODE 6820-34-S